DEPARTMENT OF AGRICULTURE

Farm Service Agency

Information Collection, Volunteer Program

AGENCY: Farm Service Agency, USDA.

ACTION: Notice; request for comments.

SUMMARY: In accordance with the Paperwork Reduction Act of 1995, the Farm Service Agency (FSA) is requesting comments from all interested individuals and organizations on an extension with a revision of a currently approved information collection associated with the Volunteer Program.

DATES: We will consider comments that we receive by June 20, 2014.

ADDRESSES: We invite you to submit comments on this notice. In your comment, include volume, date and page number of this issue of the Federal Register. You may submit comments by any of the following methods:

• Federal eRulemaking Portal: Go to: www.regulations.gov. Follow the online instructions for submitting comments.

• Mail: Ms. Shannon Logan, USDA, FSA, Human Resources Division, HCSPIB, 355 E Street SW., 12th Floor, Washington, DC 20024.

You may also send comments to the Desk Officer for Agriculture, Office of Information and Regulatory Affairs, Office of Management and Budget, Washington, DC 20503. Copies of the information collection may be requested by contacting Shannon Logan at the above address.

FOR FURTHER INFORMATION CONTACT: Ms. Shannon Logan; (202) 401-0165.

SUPPLEMENTARY INFORMATION:

Title: Volunteer Program.

OMB Control Number: 0560-0232.

Expiration Date for Approval: September 30, 2014.

Type of Request: Extension and revision.

Abstract: Section 1526 of the Food and Agriculture Act of 1981 (7 U.S.C. 2272) permits the Secretary of Agriculture to establish a program (“the Volunteer Program”) to use volunteers to perform a wide range of activities to carry out the programs of, or supported by, the Department of Agriculture. In addition, 5 U.S.C. 3111 grants agencies the authority to establish programs designed to provide educationally-related work assignments for students in non-pay status. For FSA's volunteer program, each volunteer must follow the same responsibilities and guidelines for conduct that Federal government employees are expected to follow. The volunteers, who are mainly students participating in the sponsored volunteer program, must complete a service agreement, attendance records, and other forms, and provide the required supporting documents. This collected information will allow FSA to effectively recruit, train, and accept volunteers to carry out programs supported by the Department of Agriculture, therefore benefitting volunteers, the Department of Agriculture, and the general public.

Without the collected information, FSA will be unable to document the services provided by the volunteers. FSA will report the collected information to offices within the Department of Agriculture and the Office of Personnel Management that request information on the Volunteer Program.

This information collection will continue to use the volunteer attendance record (Form AD-2025) and travel times. Also, the three service agreement forms (Forms AD-2022, AD-2023, and AD-2024) are being replaced with Form OF301a, the Volunteer Service Agreement. Together, the remaining forms will provide the information FSA requires. Consequently, burden hours are being reduced in this request.

Estimate of Burden: Public reporting burden for this information collection is estimated to average 15 minutes per response. The average travel time to a USDA Service Center office to complete the forms is included in the total annual burden, and is estimated to be 1 hour per respondent.

Estimated Number of Respondents: 30.

Estimated Number of Responses per Respondent: 1.

Estimated Total Annual of Reponses: 30.

Estimated Total Annual Burden hours: 15.

We are requesting comments on all aspects of this information collection to help us to:

(1) Evaluate whether the collection of information is necessary for the proper performance of the functions of FSA, including whether the information will have practical utility;

(2) Evaluate the accuracy of FSA's estimate of burden, including the validity of the methodology and assumptions used;

(3) Enhance the quality, utility, and clarity of the information to be collected; and

(4) Minimize the burden of the collection of information on those who are to respond, including through the use of appropriate automated, electronic, mechanical, or other technological collection techniques or other forms of information technology.

All responses to this notice, including names and addresses when provided, will be summarized and included in the request for OMB approval. All comments will also become a matter of public record.

Signed on April 15, 2014.
Juan M. Garcia,
Administrator, Farm Service Agency.

[FR Doc. 2014-09000 Filed 4-18-14; 8:45 am]

BILLING CODE 3410-05-P